DEPARTMENT OF COMMERCE

National Oceanic and Atmospheric Administration

RIN 0648-XG575

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of its Habitat Protection and Ecosystem-Based Management Advisory Panel (AP).

DATES: The Habitat Protection and Ecosystem-Based Management AP meeting will take place November 6, 2018, from 9 a.m. to 4:30 p.m., November 7, 2018, from 9 a.m. until 4:30 p.m., and November 8, 2018, from 9 a.m. until 12 p.m.

ADDRESSES:

Meeting address: The meetings will be held at the Sirata Beach Resort and Conference Center, 5300 Gulf Boulevard, St. Petersburg, FL 33706; phone: (727) 363-5100.

Council address: South Atlantic Fishery Management Council, 4055 Faber Place Drive, Suite 201, N Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The Habitat Protection and Ecosystem-Based Management AP meeting is open to the public and will be available via webinar as it occurs. Registration is required. Webinar registration information and other meeting materials will be posted to the Council's website at: http://safmc.net/safmc-meetings/current-advisory-panel-meetings/ as it becomes available.

The Habitat Protection and Ecosystem-Based Management AP meeting agenda will include the following: An update on the Final Environmental Impact Statement for the Navy Fleet Training and Testing Area cooperatively developed by the Navy and NOAA Fisheries; be provided an update and provide comments on Bureau of Ocean Energy Management (BOEM) energy development activities with a focus on Renewable Energy development and industry planning in North Carolina and developing plans for other South Atlantic States; review and provide input on Council Web Services refinements developed for the Fishery Ecosystem II Dashboard; receive an overview of frigate and bullet mackerel as prey supporting the dolphin wahoo fisheries; receive an update on fishery independent research programs supporting stock and habitat assessment and ecosystem modelling including the Southeast Area Monitoring and Assessment Program (SEAMAP-SA), Marine Resources Monitoring, Assessment, and Prediction (MARMAP) and Southeast Fishery-Independent Survey (SEFIS); and receive a presentation on the ongoing mapping and characterization of South Atlantic deepwater by NOAA Office of Ocean Exploration and the NOAA research vessel Okeanus Explorer ecosystems which serve as Essential Fish Habitat (EFH)—Habitat Areas of Particular Concern (HAPC). The AP meeting will also include a discussion/breakout session to provide input on refining EFH information and online access for regional partner development of Environmental Impact Statements and supporting information for permit review addressing non-fishing threats in the region. AP members will also receive an update on NOAA Fisheries Ecosystem Based Fishery Management activities including a Climate Vulnerability Analysis, Ecosystem Status Report, Community Vulnerability and Ecosystem modelling. The AP will develop recommendations as necessary for consideration by the Council's Habitat Protection and Ecosystem-Based Management Committee.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: October 17, 2018.
Tracey L. Thompson,
Acting Deputy Director, Office of Sustainable Fisheries, National Marine Fisheries Service.

[FR Doc. 2018-22990 Filed 10-19-18; 8:45 am]

BILLING CODE 3510-22-P